DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, November 26, 2002, 2 p.m. to November 26, 2002, 3 p.m., which was published in the Federal Register on November 1, 2002, 67 FR 66648-66649.

The date is the only change from 11/26/2002 to 12/12/2002. The meeting is closed to the public.

Dated: November 22, 2002.
LaVerne Y. Stringfield,
Director, Office of Federal Advisory Committee Policy.

[FR Doc. 02-30245 Filed 11-27-02; 8:45 am]

BILLING CODE 4140-01-M